DEPARTMENT OF THE INTERIOR

Fish and Wildlife Service

Receipt of Applications for Endangered Species Permits

AGENCY: Fish and Wildlife Service, Interior.

ACTION: Notice.

SUMMARY: The public is invited to comment on the following applications to conduct certain activities with endangered species.

DATES: We must receive written data or comments on these applications at the address given below, by January 26, 2007.

ADDRESSES: Documents and other information submitted with these applications are available for review, subject to the requirements of the Privacy Act and Freedom of Information Act, by any party who submits a written request for a copy of such documents to the following office within 30 days of the date of publication of this notice: Fish and Wildlife Service, 1875 Century Boulevard, Suite 200, Atlanta, Georgia 30345 (Attn: Victoria Davis, Permit Biologist).

FOR FURTHER INFORMATION CONTACT: Victoria Davis, telephone 404/679-4176; facsimile 404/679-7081.

SUPPLEMENTARY INFORMATION: The public is invited to comment on the following applications for permits to conduct certain activities with endangered and threatened species. This notice is provided under section 10(c) of the Endangered Species Act of 1973, as amended (16 U.S.C. 1531 et seq.). If you wish to comment, you may submit comments by any one of the following methods. You may mail comments to the Fish and Wildlife Service's Regional Office (see ADDRESSES section) or via electronic mail (e-mail) to victoria_davis@fws.gov. Please include your name and return address in your e-mail message. If you do not receive a confirmation from the Fish and Wildlife Service that we have received your e-mail message, contact us directly at the telephone number listed above (see FOR FURTHER INFORMATION CONTACT section). Finally, you may hand deliver comments to the Fish and Wildlife Service office listed above (see ADDRESSES section).

Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety.

Applicant: Joanne M. Potts, University of Saint Andrews, Saint Andrews, Fife, Scotland, TE139405-0.

The applicant requests authorization to take (capture, radio tag/collar, examine, measure, release, recapture) the Key Largo woodrat (Neotoma floridana smalli) and Key Largo cotton mouse (Peromyscus gossypinus allapaticola) while developing efficient and reliable methods for long-term monitoring of the Key Largo woodrat's population size. Although the Key Largo cotton mouse is not the target species, it may be incidentally captured. The proposed activities would occur on the Crocodile Lakes National Wildlife Refuge (Monroe County, Florida) and the Key Largo Hammocks Botanical Reserve (Dade County, Florida).

Applicant: FTN Associates, Ltd., Dennis E. Ford, Little Rock, Arkansas, TE139474-0.

The applicant requests authorization to take (capture, identify, release) the American burying beetle (Nicrophorus americanus) while conducting long-term monitoring of the population at the Fort Chaffee Maneuver Training Center in Crawford, Franklin, and Sebastian Counties, Arkansas.

Applicant: Steven Bradford Cook, Cookeville, Tennessee, TE140151-0.

The applicant requests authorization to take (capture, temporarily hold, release) the Nashville crayfish (Orconectes shoupi) while developing a macro and micro habitat model. The proposed activities would occur in the Mill Creek Watershed, Davidson and Williamson Counties, Tennessee.

Dated: December 1, 2006.
Cynthia Dohner,
Acting Regional Director.

[FR Doc. E6-22135 Filed 12-26-06; 8:45 am]

BILLING CODE 4310-55-P